DEPARTMENT OF ENERGY

10 CFR Parts 429 and 430

[Docket No. EERE-2006-BT-TP-0029]

RIN 1904-AD71

Energy Conservation Program: Test Procedures for Central Air Conditioners and Heat Pumps; Correction

AGENCY: Office of Energy Efficiency and Renewable Energy, Department of Energy.

ACTION: Final rule; technical correction.

SUMMARY: On March 21, 2017, the U.S. Department of Energy (DOE) published in the Federal Register a document that temporarily further postponed the effective date of its test procedures for central air conditioners and heat pumps. This document corrects a typographical error in that document.

DATES: Effective: March 29, 2017.

FOR FURTHER INFORMATION CONTACT:

Ms. Ashley Armstrong, U.S. Department of Energy, Office of Energy Efficiency and Renewable Energy, Building Technologies Office, EE-5B, 1000 Independence Avenue SW., Washington, DC 20585-0121. Telephone: (202) 586-6590. Email: Ashley.Armstrong@ee.doe.gov.

Ms. Johanna Jochum, U.S. Department of Energy, Office of the General Counsel, GC-33, 1000 Independence Avenue SW., Washington, DC 20585-0121. Telephone: (202) 287-6307. Email: Johanna.Jochum@hq.doe.gov.

SUPPLEMENTARY INFORMATION:

I. Background

On March 21, 2017, DOE further temporarily postponed the effective date of its final rule amending the test procedures for central air conditioners and heat pumps published in the Federal Register on January 5, 2017. 82 FR 14425; see also 82 FR 1426.¹ DOE indicated in the March 21 document that the new effective date of the test procedure would be the same date as the original compliance date, and stated that date as July 3, 2017. However, the January 5 final rule provided that the compliance date with appendix M of the test procedure, as determined by statute, would be 180 days after publication of the final rule in the Federal Register, i.e., July 5, 2017. 82 FR 1426 (Jan. 5, 2017). DOE did not intend by the March 21 document to change the original compliance date, nor does it have authority to do so. As such, the statement in the March 21 notice that the compliance date of the final rule was July 3, 2017, was in error. Thus, DOE is issuing this correction to fix the error and clarify that the compliance date with Appendix M of the January 5 final rule has been and remains July 5, 2017, and, therefore, the effective date of the January 5 final rule is also July 5, 2017.

¹ DOE had previously temporarily postponed the effective date of this final rule for 60 days from January 20, 2017, i.e., until March 21, 2017, see 82 FR 8985 (Feb. 2, 2017).

II. Need for Correction

As published, the March 21, 2017, notice may potentially result in confusion regarding how to correctly conduct DOE's central air conditioners and heat pumps test procedure. Because this final rule would simply correct errors in the preamble without making any changes to the test procedures, the changes addressed in this document are technical in nature. Accordingly, DOE finds that there is good cause under 5 U.S.C. 553(b)(B) to not issue a separate document to solicit public comment on the changes contained in this document. Issuing a separate document to solicit public comment would be impracticable, unnecessary, and contrary to the public interest.

III. Procedural Requirements

DOE has concluded that the determinations made pursuant to the various procedural requirements applicable to the January 5, 2017 test procedure final rule remain unchanged for this final rule technical correction. These determinations are set forth in the January 5, 2017, final rule. 82 FR 1426.

Issued in Washington, DC, on March 23, 2017.
John T. Lucas,
Acting General Counsel.

[FR Doc. 2017-06202 Filed 3-28-17; 8:45 am]

BILLING CODE 6450-01-P